DEPARTMENT OF COMMERCE

International Trade Administration

American Management and Business Internship Training (AMBIT) Program: Applications

ACTION: Proposed collection; comment request.

SUMMARY: The Department of Commerce, as part of its continuing effort to reduce paperwork and respondent burden, invites the general public and other Federal agencies to take this opportunity to comment on the continuing information collections, as required by the Paperwork Reduction Act of 1995, Public Law 104-13 (44 U.S.C. 3506(c)(2)(A)).

DATES: Written comments must be submitted on or before July 6, 2001.

ADDRESSES: Direct all written comments to Madeleine Clayton, Departmental Paperwork Clearance Officer, (202) 482-3129, Email Mclayton@doc.gov., Department of Commerce, Room 6086, 14th Street & Constitution Avenue, NW, Washington, DC 20230.

FOR FURTHER INFORMATION CONTACT: Requests for additional information or copies of the information collection instruments and instructions should be directed to: Tracy M. Rollins, SABIT, Room 3319, Department of Commerce, 14th Street & Constitution Avenue, NW, Washington, DC 20230; phone (202) 482-0073, fax (202) 482-2443.

SUPPLEMENTARY INFORMATION:

I. Abstract

The U.S. Department of Commerce's International Trade Administration (ITA), in collaboration with the International Fund for Ireland (IFI), has established the American Management & Business Internship Training (AMBIT) program. AMBIT provides one-week to six-month training programs for managers and technical experts from Northern Ireland and the Border Counties of Ireland, thereby improving their skills while enhancing U.S. commercial opportunities in the region. AMBIT was launched in 1995 to demonstrate America's interest in supporting the peace process by encouraging economic development in Northern Ireland and the Six Border Counties of Ireland.

The U.S. Department of Commerce works in partnership with the IFI, an organization established in 1986 by the British and Irish Governments to promote economic/social progress and to encourage contact, dialog, and reconciliation in the region. The United States, the European Union, Canada, Australia, and New Zealand contribute to the IFI budget.

II. Method of Collection

The intern applications are sent to intern candidates via facsimile, e-mail, or mail upon request by a delegated agency of the IFI. Feedback surveys are given to participating companies and interns at the completion of the programs.

III. Data

OMB Number: 0625-0224.

Form Number: N/A.

Type of Review: Regular submission.

Affected Public: Business or other non-profit, individuals (non-U.S. citizens).

Estimated Number of Respondents: 450.

Estimated Time per Response: 1-3 hours.

Estimated Total Annual Burden Hours: 1,050.

Estimated Total Annual Cost: $63,000.00.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 1, 2001.
Madeleine Clayton,
Departmental Paperwork Clearance Officer, Office of the Chief Information Officer.

[FR Doc. 01-11331 Filed 5-4-01; 8:45 am]

BILLING CODE 3510-HE-P